DEPARTMENT OF THE TREASURY

Submission for OMB Review; Comment Request

July 5, 2002.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before August 12, 2002, to be assured of consideration.

Internal Revenue Service (IRS)

OMB Number: 1545-0003.

Form Number: IRS Forms SS-4 and SS-4PR.

Type of Review: Extension.

Title: Application for Employer Identification Number (SS-4); and Solicitud de Ńumero de Identificacíon Patronal (EIN) (SS-4PR).

Description: Taxpayers required to have an identification number for use on any return, statement, or other document must prepare and File Form SS-4 or Form SS-4PR (Puerto Rico only) to obtain a number. The information is used by the IRS and the SSA in tax administration and by the Bureau of the Census for business statistics.

Respondents: Business or other for-profit, Individuals or households, Not-for-profit institutions, Farms, Federal Government, State, Local or Tribal Government.

Estimated Number of Respondents/Recordkeepers: 2,419,064.

Estimated Burden Hours Per Respondent/Recordkeeper:

| Form SS-4 (min.) | Form SS-4PR (min.)
Recordkeeping | 6 | 7
Learning about the law or the form | 22 | 22
Preparing the form | 46 | 46
Copying, assembling, and sending the form to the IRS | 20 | 20

Frequency of Response: On occasion.

Estimated Total Reporting/Recordkeeping Burden: 3,919,265 hours.

OMB Number: 1545-0049.

Form Number: IRS Form 990-BL, Schedule A (Form 990-BL), Form 6069.

Type of Review: Extension.

Title: Form 990-BL, Information and Initial Excise Tax Return for Black Lung Benefit Trusts and Certain Related Persons; and Schedule A, (Form 990-BL), Initial Excise Taxes on Black Lung Benefit Trusts and Certain Related Persons Under sections 4951 and 4952 of the Internal Revenue Code; and Form 6069, Return of Excise Tax on Excess Contributions to Black Lung Benefit Trust Under Section 4953 and Computation of Section 192 Deduction.

Description: IRS uses Form 990-BL to monitor activities of black lung benefit trusts, and to collect excise taxes on these trusts and certain related persons if they engage in proscribed activities. The tax is figured on Schedule A and attached to Form 990-BL. Form 6069 is used by coal mine operators to figure the maximum deduction to a black lung benefit trust. If excess contributions are made, IRS uses the form to figure and collect the tax on excess contributions.

Respondents: Business or other for-profit, Individuals or households, Not-for-profit institutions.

Estimated Number of Respondents/Recordkeeper: 22.

Estimated Burden Hours Per Respondent/Recordkeeper:

| Form 990-BL | Schedule A | Form 6069
Recordkeeping | 16 hr., 44 min | 6 hr., 56 min | 6 hr., 42 min.
Learning about the law or the form | 3 hr., 52 min | 18 min | 1 hr., 45 min.
Preparing, copying, assembling and sending the form to the IRS | 4 hr., 19 min | 25 min | 3 hr., 8 min.

Frequency of Response: Annually.

Estimated Total Reporting/Recordkeeping Burden: 592 hours.

Clearance Officer: Glenn Kirkland, Internal Revenue Service, Room 6411-03, 1111 Constitution Avenue, NW., Washington, DC 20224, (202) 622-3428.

OMB Reviewer: Joseph F. Lackey, Jr., Office of Management and Budget, Room 10235, New Executive Office Building, Washington, DC 20503, (202) 395-7316.

Mary A. Able,
Departmental Reports, Management Officer.

[FR Doc. 02-17492 Filed 7-11-02; 8:45 am]

BILLING CODE 4830-01-P